DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before May 26, 2010.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for modification of special permit is published in accordance with Part 107 of the Federal hazardous materials transportation law (49 U.S.C. 5117(b); 49 CFR 1.53(b)).

Issued in Washington, DC, on April 30, 2010.
Delmer F. Billings,
Director, Office of Hazardous Materials, Special Permits and Approvals.

Application No. | Docket No. | Applicant | Regulation(s) affected | Nature of special permit thereof
MODIFICATION SPECIAL PERMITS
3121-M |  | U.S. Department of Defense, Scott Air Force Base, IL | 49 CFR 172.101 (Column (8c)); 177.841 | To modify the special permit to authorize the transportation in commerce of dinitrogen tetroxide with an updated emergency response plan. (HERP dated 1 April 2008).
10326-M |  | Honeywell International, Inc., Morristown, NJ | 49 CFR 178.44; 173.302(a)(2); 175.3 | To modify the special permit to authorize the plating on the EED Cartridge connector pins to be gold and to add drawing 3258082-2 to the special permit.
11598-M |  | Metalcraft, Inc., Baltimore, MD | 49 CFR 175.3; 180.209 | To modify the special permit to authorize an additional Division 2.2 hazardous material.
11761-M |  | Eli Lilly & Company, Clinton, MD | 49 CFR 173.31(d)(1)(vi); 172.302(c) | To modify the special permit to add an additional Class 8 hazardous material.
12087-M |  | LND, Inc., Oceanside, NY | 49 CFR 172.101, (Col. 9); 173.306; 175.3 | To modify the special permit to decrease the maximum allowable pressure from 25 PSIG to 5 PSIG; to add two new design types; and allow the maximum volume of the radiation sensor to be a function of the fill pressure not to exceed 57 grams of BF3 per sensor.
12561-M |  | Rhodia, Inc., Cranbury, NJ | 49 CFR 172.203 (a); 173.31; 179.13 | To modify the special permit by amending Paragraph 7 to reflect existing AAR and 49 CFR construction specifications for DOT 111 tank cars.
14372-M |  | Garrett Aviation Services LLC, dba Standard Aero, Augusta, GA | 49 CFR 173.301(a)(1); 173.304 | To modify the special permit to add an additional type certificate to 7.b.(2) and to allow production markings to be obliterated as part of the retest.
14447-M |  | SNF Holding Company, Riceboro, GA | 49 CFR 177.834 | To modify the special permit to authorize the addition of Class 3, 8 and Division 6.1 hazardous materials.
14457-M |  | Amtrol Alfa Metalomecanica SA, Portugal | 49 CFR 173.304a(a)(1); 175.3 | To modify the special permit to extend the authorized cylinder service life from 15 years to 30 years.
14617-M |  | Western International Gas & Cylinders, Inc., Bellville, TX | 49 CFR 172.203(a), 172.301(c), 180.205(f)(4), 180.205(g), 180.209(a) | To modify the special permit to add DOT 3AL cylinders to paragraph 2.a. and to add longitudinal and circumferential crack detection for DOT 3AL cylinders.
14656-M |  | PurePak Technology Corporation, Chandler, AZ | 49 CFR 173.158(f)(3) | To modify the special permit to authorize the use of a 38 mm closure in addition to the currently authorized 45 mm tamper evident closure.
14772-M |  | GE Hitachi Nuclear Energy Americas, LLC, Sunsol, CA | 49 CFR 173.413 | To modify the special permit to authorize an increase of the total number of authorized shipments from eight (8) to twenty (20) shipments.
14815-M |  | Air Products and Chemicals, Inc., Allentown, PA | 49 CFR 173.315 | To reissue the special permit originally issued on an emergency basis to authorize transportation in commerce of nitrous oxide, refrigerated liquid in fifteen non-DOT specification portable tanks that were manufactured to the EN 13530 standard instead of the ASME Code Section VIII.

[FR Doc. 2010-10912 Filed 5-10-10; 8:45 am]

BILLING CODE 4909-60-M